SMALL BUSINESS ADMINISTRATION

[Disaster Declaration #14241 and #14242]

Hawaii Disaster Number HI-00035

AGENCY: U.S. Small Business Administration.

ACTION: Amendment 1.

SUMMARY: This is an amendment of the Presidential declaration of a major disaster for Public Assistance Only for the State of Hawaii (FEMA-4201-DR), dated 03/04/2015.

Incident: Pu u O o Volcanic Eruption and Lava Flow.

Incident Period: 09/04/2014 through 03/25/2015.

Effective Date: 03/25/2015.

Physical Loan Application Deadline Date: 05/04/2015.

Economic Injury (EIDL) Loan Application Deadline Date: 12/04/2015.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street SW., Suite 6050, Washington, DC 20416.

SUPPLEMENTARY INFORMATION: The notice of the President's major disaster declaration for Private Non-Profit organizations in the State of Hawaii, dated 03/04/2015, is hereby amended to establish the incident period for this disaster as beginning 09/04/2014 and continuing through 03/25/2015. All other information in the original declaration remains unchanged.

(Catalog of Federal Domestic Assistance Numbers 59002 and 59008)

James E. Rivera,
Associate Administrator for Disaster Assistance.

[FR Doc. 2015-07890 Filed 4-6-15; 8:45 am]

BILLING CODE CODE 8025-01-P